DEPARTMENT OF THE INTERIOR

National Park Service

[NPS-WASO-NAGPRA-NPS0040471; PPWOCRADN0-PCU00RP14.R50000]

Notice of Inventory Completion: Merced College, Merced, CA

AGENCY: National Park Service, Interior.

ACTION: Notice.

SUMMARY: In accordance with the Native American Graves Protection and Repatriation Act (NAGPRA), Merced College has completed an inventory of human remains and associated funerary objects and has determined that there is a cultural affiliation between the human remains and associated funerary objects and Indian Tribes or Native Hawaiian organizations in this notice.

DATES: Repatriation of the human remains and associated funerary objects in this notice may occur on or after August 11, 2025.

ADDRESSES: Send written requests for repatriation of the human remains and associated funerary objects in this notice to Jeff Buechler, Social Sciences Stop 35—Merced College, 3600 M Street, Merced, CA 95348, email jeffrey.buechler@mccd.edu.

SUPPLEMENTARY INFORMATION: This notice is published as part of the National Park Service's administrative responsibilities under NAGPRA. The determinations in this notice are the sole responsibility of Merced College, and additional information on the determinations in this notice, including the results of consultation, can be found in the inventory or related records. The National Park Service is not responsible for the determinations in this notice.

Abstract of Information Available

In or before May 1970, human remains were uncovered in a private agricultural field near Dos Palos, Fresno County, CA, dubbed the “Wilkins Site”, although its exact location is unknown. Following the discovery, Professor Charles Ostrander and students of Merced College conducted excavations at the site and removed a minimum of 21 individuals and some associated funerary objects. Of the 10 associated funerary objects listed, nine are present and accounted for in Merced College's collections, and one is currently missing. The nine present associated funerary objects are one lot of stone cores, one lot of faunal material, one lot of groundstone implements, one lot of black metasedimentary lithic debitage, one lot of chert lithic debitage, one oblong stone, one projectile point, one lot of rocks, and one stone unifacial tool. The one missing associated funerary object is one lot of shell beads.

In 2020, human remains labeled “Dos Palos-Richard Farmer” and “Firebaugh” were identified in the Merced College collection, representing a minimum of three individuals. These individuals may have been removed from the Wilkins Site mentioned above, as Dos Palos and Firebaugh are nearby towns, or they could have been removed from other unknown sites in the area. No associated funerary objects are present.

In or before March of 1989, fragmentary human remains and associated funerary objects were removed from the surface of a “Native American Cemetery Site” on private property, southwest of the town of Red Top in Madera County, CA. In March of 1989, a minimum of one individual and a sample of associated funerary objects from this site were donated to Merced College by Dawn Jackson. The three associated funerary objects are one lot of shell beads, one stone mortar bowl, one stone metate.

On an unknown date, a minimum of one individual was removed from an unrecorded site at an unknown location labeled “El Nido”, which is presumed to be near the town of El Nido, along Highway 59 in Merced County, CA. On an unknown date, the individual was then brought to Merced College and determined to be Native American. No associated funerary objects are present.

In 1979, Charles Ostrander and Merced College students excavated at CA-MER-221, also known as the Frank Staumbach site, in the Los Banos area of Merced County, CA. They may have also excavated in one or two adjacent sites (CA-MER-220, CA-MER-223) as well, but this remains unclear. Human remains, representing a minimum of three individuals, were located in a box labeled “. . . MER-220, 221, 223” in the Merced College collections. The five associated funerary objects are one lot of shell beads, one lot of steatite beads, one lot of possible bone beads, one lot of faunal bone and fish vertebrae, and one lot of shell fragments.

Cultural Affiliation

Based on the information available and the results of consultation, cultural affiliation is clearly identified by the information available about the human remains and associated funerary objects described in this notice.

Determinations

Merced College has determined that:

• The human remains described in this notice represent the physical remains of 29 individuals of Native American ancestry.

• The 18 objects described in this notice are reasonably believed to have been placed intentionally with or near individual human remains at the time of death or later as part of the death rite or ceremony.

• There is a reasonable connection between the human remains and associated funerary objects described in this notice and the Picayune Rancheria of Chukchansi Indians of California; Santa Rosa Indian Community of the Santa Rosa Rancheria, California; Table Mountain Rancheria; Tejon Indian Tribe; and the Tule River Indian Tribe of the Tule River Reservation, California.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after August 11, 2025. If competing requests for repatriation are received, Merced College must determine the most appropriate requestor prior to repatriation. Requests for joint repatriation of the human remains and associated funerary objects are considered a single request and not competing requests. Merced College is responsible for sending a copy of this notice to the Indian Tribes and Native Hawaiian organizations identified in this notice.

Authority: Native American Graves Protection and Repatriation Act, 25 U.S.C. 3003, and the implementing regulations, 43 CFR 10.10.

Dated: June 25, 2025.
Melanie O'Brien,
Manager, National NAGPRA Program.

[FR Doc. 2025-12825 Filed 7-9-25; 8:45 am]

BILLING CODE 4312-52-P